DEPARTMENT OF TRANSPORTATION

Office of the Secretary of Transportation

14 CFR Part 399

RIN 2105-AE83

Notice of Termination of Rulemaking Action

AGENCY: Office of the Secretary, Department of Transportation.

ACTION: Termination of rulemaking.

SUMMARY: The Department of Transportation (DOT) is announcing its decision to terminate its rulemaking titled “Notifying Air Travelers of DOT's Aviation Consumer Hotline” (RIN 2105-AE83), which was previously listed in DOT's semiannual Regulatory Agenda. That rulemaking would have established a consumer complaints toll-free hotline telephone number and required airlines to display the number on their websites and at airports in accordance with 49 U.S.C. 42302, as amended by section 423 of the FAA Reauthorization Act of 2018 (Pub. L. 115-254). However, before DOT could complete a rulemaking, Congress enacted section 520 of the FAA Reauthorization Act of 2024 (Pub. L. 118-63), which eliminated the requirement from section 42302 that the Department establish the consumer complaints hotline telephone number. Consistent with the Administration's focus on reducing regulation and Congress' elimination of this requirement section 42302, DOT is terminating the proceeding.

FOR FURTHER INFORMATION CONTACT: Blane A. Workie, Office of the Secretary, Office of Aviation Consumer Protection (C-70), U.S. Department of Transportation, 1200 New Jersey Ave. SE, Washington, DC 20590, 202-366-9342 (phone), blane.workie@dot.gov (email).

DATES: This termination was made on August 19, 2025.

SUPPLEMENTARY INFORMATION: Section 415 of the FAA Modernization and Reform Act of 2012 (Pub. L. 112-95) required the Secretary of Transportation to establish a consumer complaints toll-free hotline number for the use of passengers in air transportation and to take actions to notify the public of that telephone number and the internet website of DOT's Aviation Consumer Protection Division (ACPD), now the Office of Aviation Consumer Protection (OACP).¹ It also required air carriers and foreign air carriers that operate scheduled air transportation using any aircraft with a design seating capacity of 30 or more seats to include on their internet websites: (1) the toll-free hotline number; (2) the email address, telephone number, and mailing address of the carrier for the submission of complaints by passengers about air travel service problems; and (3) ACPD's web and mailing addresses where passengers can submit complaints about air travel service problems to DOT. Further, it required carriers to include the hotline telephone number on prominently displayed signs of the carrier at airport ticket counters in the United States where the carrier operates and any electronic confirmation of the purchase of a passenger ticket for air transportation issued by the carrier. Section 423 of the FAA Reauthorization Act of 2018 (2018 FAA Act) required the Secretary of Transportation to promulgate regulations to implement these requirements, which were in 49 U.S.C. 42302.

¹ DOT's Aviation Consumer Protection Division no longer exists. Its functions are now part of DOT's Office of Aviation Consumer Protection.

DOT responded to section 423 of the 2018 FAA Act by initiating the Notifying Air Travelers of DOT's Aviation Consumer Hotline rulemaking (RIN 2105-AE83). However, DOT did not complete the rulemaking before Congress enacted section 520 of the FAA Reauthorization Act of 2024, which amended section 42302 by eliminating the requirement that DOT establish a consumer complaints toll-free hotline telephone number. Consistent with the Administration's focus on reducing regulation and Congress' elimination of the consumer complaints toll-free hotline requirements from statute, the Department withdraws the Notifying Air Travelers of DOT's Aviation Consumer Hotline rulemaking (RIN 2105-AE83).

With respect to the requirement remaining in section 42302 for airlines to provide contacts for the submission of complaints by passengers to the airline, the Department's regulations in 14 CFR 259.7 already require U.S. and foreign airlines conducting scheduled service or public charter service using at least one aircraft having a designed seating capacity of 30 or more seats to make available the mailing and email or web address of the designated department in the airline with which to file a complaint about its scheduled service on their website. As such, an additional rule requiring airlines to provide contacts for the submission of complaints by passengers to the airline is unnecessary.

Termination of Proceeding

In view of the foregoing, it is hereby determined that Notifying Air Travelers of DOT's Aviation Consumer Hotline rulemaking (RIN 2105-AE83) is terminated.

Issued in Washington, DC, under authority delegated in 49 CFR 1.27(n).
Gregory D. Cote,
Acting General Counsel.

[FR Doc. 2025-15753 Filed 8-18-25; 8:45 am]

BILLING CODE 4910-9X-P